NATIONAL CREDIT UNION ADMINISTRATION

Submission for OMB Review; Comment Request

AGENCY: National Credit Union Administration (NCUA).

ACTION: Notice.

SUMMARY: The National Credit Union Administration (NCUA) will submit the following information collection request to the Office of Management and Budget (OMB) for review and clearance in accordance with the Paperwork Reduction Act of 1995, on or after the date of publication of this notice.

DATES: Comments should be received on or before June 24, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Mackie Malaka at (703) 548-2704, emailing PRAComments@ncua.gov, or viewing the entire information collection request at www.reginfo.gov.

SUPPLEMENTARY INFORMATION: OMB Number: 3133-0195.

Type of Review: Extension of a currently approved collection.

Title: Minority Depository Institution Preservation Program.

Abstract: The Dodd-Frank Wall Street Reform and Consumer Protection Act (Dodd-Frank Act) (Pub. L. 111-203, 124 Stat. 1376) amended Financial Institution Reform, Recovery, and Enforcement Act (FIRREA) § 308 to require the NCUA, Office of the Comptroller of Currency, and the Federal Reserve Board to establish a program to comply with its goals to preserve and encourage Minority Depository Institutions (MDIs). The NCUA Board issued Interpretive Ruling and Policy Statement (IRPS) 13-1 establishing a MDI preservation program to comply with FIRREA § 308 goals. The IRPS identifies the procedure for a federally insured credit union to determine and document its ability to designate itself as a MDI, resulting in the ability to participate in the Program.

Affected Public: Private Sector: Not-for-profit institutions.

Estimated Total Annual Burden Hours: 38.

Reason for Change: Changes are attributed to current updated data since the last previous submission.

By Melane Conyers-Ausbrooks, Secretary of the Board, the National Credit Union Administration, on May 19, 2021.

Dated: May 19, 2021.
Mackie I. Malaka,
NCUA PRA Clearance Officer.

[FR Doc. 2021-10943 Filed 5-24-21; 8:45 am]

BILLING CODE 7535-01-P